DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is:

Financial Technologies Business Development Trade Mission to Hong Kong and Thailand, October 28-November 1, 2024

A summary of the mission is found below. Application information and more detailed mission information, including the commercial setting and sector information, can be found at the trade mission website: https://www.trade.gov/trade-missions.

For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be canceled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least fifty-one percent U.S. content by value.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers, and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including the likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Financial Technologies Business Development Trade Mission to Hong Kong and Thailand, October 28-November 1, 2024

Summary

The United States Department of Commerce, International Trade Administration (ITA), is organizing a Financial Technologies (Fintech) Business Development Mission to Hong Kong and Thailand from October 28-November 1, 2024.

The purpose of the fintech mission is to expand opportunities for U.S. companies to explore the immense potential that Hong Kong and Thailand offer in terms of access to capital, market size and talent pool. Delegates will gain invaluable insights into the local market landscape and establish relationships with local banks, financial institutions, and investors.

This business development mission is aimed at promoting and expanding the international presence of U.S. financial technology companies and to foster bilateral partnerships between U.S. fintech companies and financial institutions in Hong Kong and Thailand. These collaborations can stimulate innovation in the global fintech landscape and strengthen the global presence of U.S. companies. This mission will also be part of delivering and advancing U.S. technology, standards, and commercial interests in this vital region of the world.

ITA will organize a tailored program for U.S. companies exploring opportunities in Hong Kong and Thai markets and will leverage strong connections with U.S. interagency partners to lead discussions on trade, financing, and technical aspects of doing business in these two markets. Mission participants will have the opportunity to meet with potential buyers and partners, financial institutions, government officials, investors and associations. Mission participants will participate in Hong Kong Fintech Week on the first stop, followed by a visit to Bangkok. Both stops will include ITA-hosted networking events, pre-screened business-to-business matchmaking meetings, roundtable discussions with U.S. and foreign government and industry leaders, and optional company site visits.

Mission participants will receive assistance to secure meetings, gain greater exposure to Hong Kong and Thai markets, and benefit from the guidance and insights of ITA's commercial team and the support and expertise of interagency partners including the U.S. Department of State and the U.S. Department of the Treasury.

Hong Kong

Hong Kong is a Special Administrative Region (SAR) of the People's Republic of China (PRC) with a population of 7.4 million. There are numerous business opportunities given Hong Kong's finance and marketing talent base, sophisticated infrastructure, and access to mainland China's manufacturing centers. According to Invest Hong Kong (Hong Kong's official inbound investment agency), 78 of the world's top 100 banks call Hong Kong home. With over 163 licensed banks and 8 virtual banks, Hong Kong has large financial infrastructure. There are no controls over capital movement, no capital gains, and no tax on dividends. Hong Kong hosts the largest pool of RMB liquidity outside Mainland China. Hong Kong also serves as a springboard for foreign firms seeking access to Mainland China and for Chinese companies going global.

The Hong Kong government aims to push Hong Kong's status as a financial center, with fintech as a key subsector. As Hong Kong is home to over 3,900 startups, roughly 800 fintech companies, and ten unicorn companies, it claims a spot among the leading global cities for fostering swift startup growth. In June 2021, the Hong Kong Monetary Authority (HKMA) rolled out a “Fintech 2025” strategy for driving fintech development in Hong Kong. Blockchain technology advancements and the increasing use of big data analytics are among the top fintech trends in Hong Kong in 2024.

As a show of support for the sector, each year Invest Hong Kong organizes Hong Kong FinTech Week, one of the largest and most influential fintech events in Asia. It gathers regulators, fintech leaders and innovators around the world to in a dynamic conference and large exhibition setting, enabling attendees to connect with the Hong Kong and regional fintech industry. Hong Kong FinTech Week in 2023 attracted a record high of 35,000 attendees, over 5.5 million views online from over 100 economies, featured over 800 speakers and over 700 exhibitors.

To encourage inbound fintech activity into Hong Kong, Invest Hong Kong also organizes two attractive programs at no cost: the Global Fast Track Program, which is a hybrid program for startups to connect with investors and corporates, and a Global Scaleup Competition for eligible tech companies that are selected to pitch in front of judges at Hong Kong Fintech Week. In fact, a U.S. fintech company nearly won last year's competition. Moreover, the Fintech Association of Hong Kong has a vibrant board and very active membership that is enthusiastic about welcoming inbound U.S. fintech and related companies.

Because the U.S. Commercial Service in Hong Kong has a long history of attending Hong Kong Fintech Week, we are in a strong position to help many U.S. companies connect with the deep and sophisticated ecosystem of this growing industry. There will be no additional cost to the participants of this Trade Mission to attend Hong Kong Fintech Week.

Thailand

Thailand, located in the heart of ASEAN, is an upper middle-income country and the second-largest economy in ASEAN after Indonesia. Its gross domestic product (GDP) in 2022 was US$ 526 billion, growing 2.6 percent from the previous year.

In Thailand, the public sector plays a significant role in developing fintech initiatives. Engagement with the Thai government is critical, as it seeks to make Bangkok a regional financial hub. In recent years, the fintech sector has been developing and evolving rapidly, driven by new government initiatives, advancements in technology, and changing consumer behavior. The adoption of new technologies is transforming traditional financial institutions and creating new opportunities for development in the sector.

Since the pandemic in 2020, Thailand has swiftly embraced digital transformation in both its public and private sectors. This shift has been encouraged by government support aiming to establish Thailand as a regional fintech hub. As a result, Thailand's fintech sector has experienced incredible growth driven by technology adoption across industries. For example, Thailand has seen a surge in digital transactions. E-wallets and mobile payment platforms have gained widespread acceptance among Thai society. There are nearly 300 fintech companies in Thailand, which has an active Thailand Fintech Association comprised of members in a wide variety of categories in fintech.

The Thai fintech ecosystem also has a growing list of organizations, agencies, and companies that support the growth in the sector. As another initiative from the government, in 2023, the BOT released the consultation document on a virtual bank licensing framework, which is the groundwork for introducing virtual banks as new financial service providers. The central bank plans to finalize the licensing regulation and announce the list of approved applications in 2024. During the initial phase, the three licenses will be awarded.

Proposed Timetable
[* Note: The final schedule and potential site visits will depend on the availability of host government and business officials, specific goals of mission participants, and ground transportation.]
Sunday | • Trade Mission Participants Arrive in Hong Kong by Sunday
October 27 | • Optional: no-host evening gathering in Central, Hong Kong
Monday | Full Day in Hong Kong
October 28 | • Hong Kong Interagency Briefing by U.S. Consulate in HK
| • B2B matchmaking meetings at Hong Kong FinTech Week facilitated by the U.S. Commercial Service
| • Networking receptions organized by private sector partners
Tuesday | Full Day in Hong Kong
October 29 | • Visit Hong Kong FinTech Week
| • B2B matchmaking meetings facilitated by the U.S. Commercial Service
| • Networking reception organized by U.S. Consulate
Wednesday | Half Day in Hong Kong/Travel to Thailand
October 30 | • Site visits to government and influential private sector offices involved in fintech in Hong Kong *
| • Roundtable with Fintech Association of Hong Kong or AmCham Hong Kong members *
| • Travel from Hong Kong to Thailand (Bangkok)
| * Optional site visits; some companies may have their own meetings arranged
Thursday | Full Day in Bangkok, Thailand
October 31 | • Limited Country Team Briefing
| • Meeting with the executive at the Ministry of Finance
| • Meeting with the National Cyber Security Agency
| • Meeting with the Bank of Thailand
Friday | Full Day in Bangkok, Thailand
November 1 | • B2B Meetings
| • Fintech Association of Thailand
| • Thai Banks Association
| • Association of Thai Securities Companies
| • AMCHAM/US ABC
| Mission Concludes

Participation Requirements

All parties interested in participating in the trade mission must complete and submit an application package for consideration by the DOC. All applicants will be evaluated on their ability to meet certain conditions and best satisfy the selection criteria as outlined below. A minimum of 10 and maximum of 15 firms participate in the mission from the applicant pool, subject to space availability.

Fees and Expenses

After a firm or trade association has been selected to participate in the mission, a payment to the Department of Commerce in the form of a participation fee is required. The participation fee for the Business Development Mission will be $2,900 for small or medium-sized enterprises (SME); and $4,500 for large firms or trade associations. The fee for each additional firm representative (large firm or SME/trade organization) is $750. The participation fee includes the cost for participants of this Trade Mission to attend mission related activities at Hong Kong Fintech Week in Hong Kong. Expenses for travel, lodging, meals, and incidentals will be the responsibility of each mission participant. Interpreter and driver services can be arranged for additional cost. Delegation members will be able to take advantage of U.S. Embassy rates for hotel rooms.

If and when an applicant is selected to participate in a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is canceled, no personal expenses paid in anticipation of a mission will be reimbursed. However, participation fees for a canceled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previously selected applicants with the option to opt-in to the new virtual program.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previous selected applicants with the option to opt-in to the new virtual program.

Timeframe for Recruitment and Applications

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than July 31, 2024. The U.S. Department of Commerce will review applications and inform applicants of selection decisions on a rolling basis. Applications received after July 31, 2024, will be considered only if space and scheduling constraints permit.

Contacts

Peter Sexton—Recruitment Lead, U.S. Commercial Service, U.S. Export Assistance Center—New York, NY, 212-809-2647, Peter.Sexton@trade.gov

Gemal Brangman—Project Lead, Global Trade Programs, Washington, DC, 202-482-3773, Gemal.Brangman@trade.gov

Geoffrey Parish, U.S. Commercial Service, U.S. Consulate-General—Hong Kong & Macau, Geoffrey.Parish@trade.gov

Paul Frost, U.S. Commercial Service, U.S. Consulate-General—Hong Kong & Macau, Paul.Frost@trade.gov

Nicole Yan, U.S. Commercial Service, U.S. Consulate-General—Hong Kong & Macau, Nicole.Yan@trade.gov

Catherine Spillman, U.S. Commercial Service, U.S. Embassy—Bangkok, Thailand, Catherine.Spillman@trade.gov

Charles Phillips, U.S. Commercial Service, U.S. Embassy—Bangkok, Thailand, Charles.Phillips@trade.gov

Oraphan Boonyalug, U.S. Commercial Service, U.S. Embassy—Bangkok, Thailand, Oraphan.Boonyalug@trade.gov

Gemal Brangman,
Director, Global Trade Programs.

[FR Doc. 2024-11691 Filed 5-28-24; 8:45 am]

BILLING CODE 3510-DR-P